DEPARTMENT OF HEALTH AND HUMAN SERVICES

[Document Identifier OS-0990-0478]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment. Since March 29, 2020, the U.S. government has been collecting data from hospitals and states to understand health care system stress, capacity, capabilities, and the number of patients hospitalized due to COVID-19. As the COVID-19 response continues to evolve, Federal needs for data are also evolving. The data elements within the collection are being altered to best meet the needs of the current response to COVID-19. This alteration includes the addition of data elements collecting more detailed information on pediatric hospitalizations, which will help to better understand pediatric hospital surge as well as inform epidemiologic surveillance to inform potential response actions. The alteration also includes making various data elements inactive for federal data collection based on current and anticipated future federal response needs, as well as reduce burden where possible. While inactive, these data elements will still be considered as remaining part of the data collection to allow jurisdictions to continue collecting the information if it is needed for their unique response needs.

DATES: Comments on the ICR must be received on or before February 10, 2022.

ADDRESSES: Written comments and recommendations for the proposed information collection should be sent within 30 days of publication of this notice. To be assured consideration, comments and recommendations must be submitted in any one of the following ways:

1. Electronically. You may send your comments electronically to http://www.regulations.gov. Follow the instructions for “Comment or Submission” or “More Search Options” to find the information collection document(s) that are accepting comments.

2. By regular mail. www.reginfo.gov/public/do/PRAMain. Find this particular information collection by selecting “Currently under 30-day Review—Open for Public Comments” or by using the search function.

FOR FURTHER INFORMATION CONTACT: Sherrette Funn, Sherrette.Funn@hhs.gov or (202) 795-7714. When submitting comments or requesting information, please include the document identifier 0990-0478-30D and project title for reference.

SUPPLEMENTARY INFORMATION: This Federal Register notice seeks public comment on the emergency revision with substantive changes recently submitted to OMB for review and approval. These comments will be reviewed and taken into consideration if the Department intends to make any revisions to the information collection request approved under [0990-0478]. Interested persons are invited to submit comments regarding the aforementioned emergency revision with substantive changes or any other aspect of this collection of information, including: The necessity and utility of the proposed information collection for the proper performance of the agency's functions, the accuracy of the estimated burden, ways to enhance the quality, utility and clarity of the information to be collected, and the use of automated collection techniques or other forms of information technology to minimize the information collection burden.

Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: U.S. Healthcare COVID-19 Portal.

Type of Collection: Emergency revision, substantial change.

OMB No.: 0990-0478—U.S. Department of Health and Human Services (HHS) Office of the Secretary. This notice also includes changing the data collection owner from the HHS Office of the Chief Information Officer (OCIO) to the HHS Assistant Secretary for Preparedness and Response (ASPR).

Abstract: The Unified Hospital Data Surveillance System (UHDSS) was created in 2020 to monitor COVID-19 health care system capacity and surge and inform epidemiological surveillance. The collection requires daily responses from all hospitals in the U.S., with some jurisdictions (state, local, tribal, or territorial governments) compiling submissions for hospitals within their locality.

Estimated Annualized Burden Table
Type of respondent | Form name | Number of respondents | Number responses per respondent | Average burden per response (in hours) | Total burden hours
Hospitals (excluding Psychiatric and Rehabilitation Hospitals) | HHS Teletracking COVID-19 Portal | 5200 | 365 | 1.25 | 2,372,500
Psychiatric and Rehabilitation Hospitals | HHS Teletracking COVID-19 Portal | 800 | 52 | 1.25 | 52,000
Infusion Centers and Outpatient Clinics reporting Inventory & use of therapeutics (MABs) | HHS Teletracking COVID-19 Portal | 400 | 52 | 0.25 | 5,200
Total |  |  |  |  | 2,429,700

Sherrette A. Funn,
Paperwork Reduction Act Reports Clearance Officer, Office of the Secretary.

[FR Doc. 2022-00237 Filed 1-10-22; 8:45 am]

BILLING CODE 4150-37-P